DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of August and September, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,601C & D; Dimon, Inc., Manufacturing Plant, Greenville, NC and Manufacturing Plant, Kinston, NC

TA-W-41,681; Farley's and Sather's Candy Co., Pittston, PA

TA-W-41,692; SMS Sutton, Div. Of SMS Eumuco, Bellefonte, PA

TA-W-41,797; Lewiston Shoe Machinery, Lewiston, ME

TA-W-41,798; GNB Industrial Power, A Subsidiary of Exide Technologies, Kankakee, IL

TA-W-41,808; Newcore, Inc., Technologies Plant, Troy, MI: All workers engaged in the production of bearing caps are denied eligibility to apply for trade adjustment assistance under Section 223 of the Trade Act of 1974.

TA-W-41,802; U.S. Conec, Ltd, Hickory, NC: All workers engaged in the production of fiber optic automated polishing machines are denied eligibility to apply for trade adjustment assistance under Section 223 of the Trade Act of 1974.

TA-W-41,152 & A, B; Haworth, Inc., Holland, MI, Douglas, MI and Allegan, MI: All workers engaged in the production of steel Files are denied eligibility to apply for trade adjustment assistance under Section 223 of the Trade Act of 1974.

TA-W-41,776; The Worthington Steel Co., Malvern, PA

TA-W-41,563; Clariant Corp., Oak Creek, WI

TA-W-41,799; General Electric Industrial Systems, Salem, VA

TA-W-41,793; General Cable Corp., Sanger, CA

In the following cases, the investigation revealed that the criteria for eligibility have not been met for the reasons specified.

Increased imports did not contribute importantly to worker separations at the firm.

TA-W-41,673; Nichiren Coupler TEC USA, El Paso, TX

TA-W-41,803; Copeland Corp., Ava, MO

TA-W-41,749; The Hahn Equipment Co., A Subsidiary of The Toro Co., Evansville, IN

TA-W-41,861; U.S. Precision Glass, Lewisburg, OH

TA-W-41,849; Neoplan USA Corp., Brownsville, TX

TA-W-41,811; Clark Alabama, Inc., Pell City, AL

The workers firm does not produce an article as required for certification under Section 222 of the Trade Act of 1974.

TA-W-41,790; Fleetwood Homes of Lumberton, Lumberton, NC

TA-W-41,738; Customer Satisfaction First, Wilkes-Barre, PA

TA-W-41,843; Workers of Guardsmark, Owensboro KY Employed at Sumitomo Electric Wiring, Morgantown, KY

TA-W-41,813 & A; Startek, Laramie, WY and Grand Junction, CO

TA-W-41,711; A.O. Smith Corp., A.O. Smith Electrical Products, Inc., McMinnville, TN

TA-W-41,687; Next Day Apparel, A Div. Of Oxford Industries, Inc., Walhalla, SC

The investigation revealed that criteria (1) has not been met. A significant number or proportion of the workers did not become totally or partially separated from employment as required for certification.

TA-W-41,865; Twinpack Packaging, Inc., Also Known as Amcor Specialty Packaging, A Subdivision of Amcor, Ltd, Newport News, VA

The investigation revealed that criteria (2) has not been met. Sales or production did not decline during the relevant period as required for certification.

TA-W-41,721; Collins & Aikman Corp., Marshall Plant/Carpets and Acoustics Div., Marshall, MI

TA-W-41,801; Bard Endoscopic Technologies, A Subsidiary of C.R. Bard, Inc., Mentor, OH

Affirmative Determinations for Worker Adjustment Assistance

The following certifications have been issued; the date following the company name and location of each determination references the impact date for all workers of such determination.

TA-W-41,705; Cooper Crouse-Hinds, Commercial Products Div., A Div. Of Cooper Industries, Roanoke, VA: June 3, 2001.

TA-W-41,702; Farmland Industries, Inc., Pollock Louisiana Nitrogen Plant, Pollock, LA: May 14, 2001.

TA-W-41,691; Montgomery Production, Inc., A Subsidiary of Unilever PLC/Unilever NV, Including Leased Workers of Staffing Network LLC, Montgomery, IL: June 11, 2001.

TA-W-41,671; West Penn Hat and Cap Corp., Creighton, PA: May 14, 2001.

TA-W-41,668; Visiontek, LLC, Gurnee, IL: May 8, 2001.

TA-W-41,601; Dimon, Inc., Manufacturing Plant, Danville, VA, A; Corporate Offices, Danville, VA, B; Manufacturing Plant, Farmville, NC May 23, 2001.

TA-W-41,065; Wabash National Corp., Wabash National, LP, Huntsville, TN: February 14, 2001.

TA-W-41,742; Komatsu America Corp., Peoria, IL: June 12, 2001.

TA-W-41,729; The Sirena Apparel Group, Inc., Los Angeles, CA: May 29, 2001.

TA-W-41,719; State of The Art, Inc., State College, PA: June 14, 2001.

TA-W-41,707; Jarvis East, A Subdivision of Standex International Corp., Palmer, MA: May 31, 2001.

TA-W-41,812; A.O. Smith Electrical Products Co., Monticello, IN: June 24, 2001.

TA-W-41,784; Doutt Tool, Inc., Venango, PA: June 19, 2001.

TA-W-41,782; Brach's Confections, Inc., Chicago, IL: June 4, 2001.

TA-W-41,780; Motorola, Inc., Plantation, FL: April 18, 2001.

TA-W-41,773; Degussa Corp./BASF Performance Copolymers, LLC, Theodore, AL: June 14, 2001.

TA-W-41,764; Corning Frequency Control, A Subdivision of Corning, Inc., Mercersburg, PA: June 10, 2001.

TA-W-41,761; Glen Oaks Industries, Marietta Sportswear Manufacturing Co., Inc., Dallas, TX: June 13, 2001.

TA-W-41,755; Dale Hollow Apparel, Byrdstown, TN: June 7, 2001.

TA-W-41,860; Oki Data Americas, Inc., A Subsidiary of Oki Data Corp., A Subsidiary of Oki Electric Industry Co., Ltd, Mount Laurel, NJ: July 15, 2001.

TA-W-41,835; Premier Turbines, A Subsidiary of Sabreliner Corp., Neosho, MO: June 25, 2001.

TA-W-41,834; Munsey Products, Inc., Little Rock, AR: June 19, 2001.

TA-W-41,833; Metso Automation USA, Inc., Formerly Known as Neles Automation, Field Systems Div., Shrewsbury, MA: February 1, 2002.

TA-W-41,828; Eagle-Picher Technologies, LLC, Electro-Optical Materials Department (EP-EOM), Quapaw, OK: June 21, 2001.

TA-W-41,825; Voith Paper, Inc., A Subsidiary of J.M. Voith AG, Appleton, WI: June 19, 2001.

TA-W-41,824; Spectel/Multilink, Inc., A Wholly Owned Subsidiary of Spectel Ltd, Andover, MA: June 17, 2001.

TA-W-41,821; Midwest Metallurgical Lab, Div. Of Detroit Stoker Co., Marshall, MI: April 2, 2001.

TA-W-41,815 & A; Saunders Mfg, Co., Inc., Readfield, ME and Meridian, MS: July 1, 2001.

TA-W-41,808; Newcore, Inc., Technologies Plant, Troy, MI: All workers engaged in employment related to the production of oil pump transmission shafts who became separated from employment on or after June 24, 2001.

TA-W-41,806; Bethel Furniture Stock, Inc., Bethel, ME: June 20, 2001.

TA-W-41,805; Schneider Automation, Inc., North Andover, MA: July 1, 2001.

TA-W-41,804; Premier Turbines, A Subsidiary of Sabreliner Corp., Independence, KS: June 24, 2001.

TA-W-41,800 & A; Lightening Metal Specialties, d/b/a/ Flextronics, Enclousure Systems Div., 1431 FM 101, New Braunfels, TX and 710 FM 306, New Braunfels, TX: June 18, 2001.

TA-W-41,775; Hussey Copper, Ltd, Leetsdale, PA: March 21, 2001.

TA-W-41,766; Crucible Specialty Metals, Syracuse, NY: June 14, 2001.

TA-W-41,750; D and L Tool, Inc., Meadville, PA: June 11, 2001.

TA-W-41,743; Alfa Laval (Tri-Clover), Kenosha, WI: June 1, 2001.

TA-W-41,616; Kennametal, Inc., Greenfield Industrial Products Group, Lyndonville, VT: May 14, 2001.

TA-W-41,509; Agilent Technologies, Inc., Microelectronics Div., Rohnert Park, CA: April 19, 2001.

TA-W-41,277; Cooper Crouse-Hinds, A Div. Of Cooper Industries, Inc., Syracuse, NY: March 1, 2001.

TA-W-40,570; ATD Corp., Vienna, OH: November 10, 2000.

TA-W-41,802; U.S. Conec, Ltd, Hickory, NC: All workers engaged in the production of optical circuits, buses, subassemblies and optical ferrules who became separated from employment on or after June 17, 2001.

TA-W-41,152; Haworth, Inc., Holland, MI: All workers engaged in the production of wood office furniture who became separated from employment on or after January 15, 2001.

Also, pursuant to Title V of the North American Free Trade Agreement Implementation Act (Pub. L. 103-182) concerning transitional adjustment assistance hereinafter called (NAFTA-TAA) and in accordance with Section 250(a), Subchaper D, Chapter 2, Title II, of the Trade Act as amended, the Department of Labor presents summaries of determinations regarding eligibility to apply for NAFTA-TAA issued during the months of August and September, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely, (3) that imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06159; EAG Electronics Corp., Fairview, PA

NAFTA-TAA-06214; Farley's and Sather's Candy Co., Pittston, PA

NAFTA-TAA-06252; Nichirin Coupler TEC USA, Inc., El Paso, TX

NAFTA-TAA-06401; Volant Ski Co., LLC, Also Known as Volant Sports, LLC, Wheat Ridge, CO

NAFTA-TAA-06417; Gate City Printing Co., Inc., Greensboro, NC

NAFTA-TAA-06352; Aerus, LLC, Formerly Electrolux, LLC, Piney Flats, TN

NAFTA-TAA-06191; Deere and Co., Construction and Forestry Div., John Deere Commercial Worksite Products, Loudon, TN: All workers engaged in the production of upper-links for skid steer loaders are denied eligibility to apply of NAFTA-TAA under Section 250 of the Trade Act of 1974.

NAFTA-TAA-06308; Santiam Forest Products, Sweet Home, OR

NAFTA-TAA-06360; Neoplan USA Corp., Brownsville, TX

NAFTA-TAA-06182; Agilent Technologies, Inc., Microelectronics Div., Rohnert Park, CA

NAFTA-TAA-06346; National Textiles, LLC Gaffney, SC

NAFTA-TAA-06384; Southern Transformer Co., East Point, GA

NAFTA-TAA-06347; Midwest Metallurgical Lab, Div. Of Detroit Stoker Co., Marshall MI

NAFTA-TAA-06394; General Cable Corp., Sanger, CA

The investigation revealed that the criteria for eligibility have not been met for the reasons specified.

The investigation revealed that workers of the subject firm did not produce an article within the meaning of Section 250(a) of the Trade Act, as amended.

NAFTA-TAA-06443; Tellabs Operations, Inc., Burlington, MA

NAFTA-TAA-06245; Next Day Apparel, A Div. Of Oxford Industries, Inc., Walhalla, SC

The investigation revealed that criteria (2) has not been met. Sales or production did not decline during the relevant period as required for certification.

NAFTA-TAA-06221; Collins and Aikman Corp., Marshall Plant/Carpets and Acoustics Div., Marshall, MI

The investigation revealed that criteria (1) has not been met. A significant number or proportion of the workers in such workers' firm or an appropriate subdivision (including workers in any agricultural firm or appropriate subdivision thereof) did not become totally or partially separated from employment as required for certification.

NAFTA-TAA-06407; Twinpack Packaging, Inc., Also Known As Amcor Specialty Packaging, A Subdivision of Amcore, Ltd, Newport News, VA

Affirmative Determinations NAFTA-TAA

NAFTA-TAA-06191; Deere and Company, Construction and Forestry Div., John Deere Commercial Worksite Products, Loudon, TN: All workers engaged in the production of skid steer bucket attachments who became separated from employment on or after May 3, 2001.

NAFTA-TAA-06386; Nova Bus, Div. Of Provost Car (US), Schenectady, NY: July 11, 2001.

NAFTA-TAA-06363; Corning Frequency Control, A Subdivision of Corning, Inc, Mercersburg, PA: June 10, 2001.

NAFTA-TAA-06349; John Deere Vehicle Group, Inc., Worldwide Commercial and Consumer Equipment Div., Williamsburg, VA: July 3, 2001.

NAFTA-TAA-06343; Doutt Tool, Inc., Vanango, PA: June 19, 2001.

NAFTA-TAA-06327; A.O. Smith Electrical Products Co., Monticello, IN: June 24, 2001.

NAFTA-TAA-06305; Montgomery Production, Inc., A Subsidiary of Unilever PLC/Unilever NVm Including Leased Workers of Staffing Network LLC, Montgomery, IL: June 8, 2001.

NAFTA-TAA-06257; Associated Garments LLP, Miami, FL: May 5, 2001.

NAFTA-TAA-05932; ADC Telecommunications, Le Sueur, MN: March 7, 2001.

NAFTA-TAA-06416; Norscan, Inc., Conover, NC: Juy 22, 2001.

NAFT-TAA-06409; Skyworks Solutions, Inc., Test and Assembly Div., Haverhill, MA: July 12, 2001.

NAFTA-TAA-06079; Sterling Fluid Systems (USA), Inc., Process Metals Foundry, White Pigeon, MI: April 8, 2001.

NAFTA-TAA-06323; Metso Automation USA, Inc., Formerly Known as Neles Automation, Field Systems Div., Shrewsbury, MA: June 17, 2001.

NAFTA-TAA-06362; D and L Tool, Inc., Meadville, PA: June 11, 2001.

NAFTA-TAA-06412; U.S. Precision Glass, Lewisburg, OH: June 28, 2001.

NAFTA-TAA-06456; Bard Endoscopic Technologies, A Subsidiary of C.R. Bard, Inc., Mentor, OH: July 17, 2001.

NAFTA-TAA-06091; Cooper Crouse-Hinds, A Div. Of Cooper Industries, Inc., Syracuse, NY: August 24, 2000.

NAFTA-TAA-06302 & A; Lightening Metals Specialties, d/b/a Flextronics, Enclosure Systems Div., 1431 FM 101, New Braunfels, TX and 710 FM 306, New Braunfels, TX: June 19, 2001.

NAFTA-TAA-06331; Premier Turbines, A Subsidiary of Sabreliner Corp., Independence, KS: June 24, 2001.

NAFTA-TAA-06311; Premier Turbines, A Subsidiary of Sabreliner Corp., Neosho, MO: June 26, 2001

NAFTA-TAA-06301; BR Holdings, Ltd, Racine Steel Castings Div., Racine, WI: June 14, 2001.

I hereby certify that the aforementioned determinations were issued during the months of August and September, 2002. Copies of these determinations are available for inspection in Room C-5311, U.S. Department of Labor, 200 Constitution Avenue, NW., Washington, DC 20210 during normal business hours or will be mailed to persons who write to the above address.

Dated: September 6, 2002.
Edward A. Tomchick,
Director, Division of Trade Adjustment Assistance.

[FR Doc. 02-24116 Filed 9-20-02; 8:45 am]

BILLING CODE 4510-30-P